MILLENNIUM CHALLENGE CORPORATION

[MCC FR 10-16]

Change of Date for December 15, 2010 Millennium Challenge Corporation Board of Directors Meeting; Sunshine Act Meeting

AGENCY: Millennium Challenge Corporation.

TIME AND DATE: 10 a.m. to 12 p.m., Wednesday, January 5, 2011.

FOR FURTHER INFORMATION CONTACT: Information on the meeting may be obtained from Melvin Williams, Jr., Vice President, General Counsel and Corporate Secretary via e-mail at Corporatesecretary@mcc.gov or by telephone at (202) 521-3600.

Background

On November 23, 2010, the Millennium Challenge Corporation published a notice in the Federal Register pursuant to the Government in the Sunshine Act (5 U.S.C. 552b) stating that the MCC Board of Directors would hold a meeting December 15, 2010. (Volume 75, Number 225, page 71465) This meeting is now being moved to January 5, 2011. All other details regarding the place, status, and matters to be considered remain the same.

Amendment

The time and date of the meeting are amended to read: 10 a.m. to 12 p.m., Wednesday, January 5, 2011

Dated: December 20, 2010.
Melvin F. Williams, Jr.,
VP/General Counsel and Corporate Secretary, Millennium Challenge Corporation.

[FR Doc. 2010-32352 Filed 12-20-10; 4:15 pm]

BILLING CODE 9211-03-P